DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 28, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Animal Plant and Health Inspection Service

Title: APHIS National Incident Management System (NIMS) Training and Exercise Program (NTEP).

OMB Control Number: 0579-NEW.

Summary of Collection: The Animal Health Protection Act (AHPA) of 2002 is the primary Federal law governing the protection of animal health. Under APHIS Directive 1810.2, APHIS National Incident Management System (NIMS) Training and Exercise Program, APHIS is assuming responsibility for providing the following FEMA related training to APHIS employees. Seats not filled by APHIS employees will be made available to state, local and tribal government respondents. The information collected from the respondents will include an application email and a course evaluation sheet. The course roster (affidavit) confirming attendance will be completed by the instructor.

The NIMS training consists of subjects, such as, the Introduction to the Incident Command System (ICS), ICS for Initial Response, ICS for Expanding Incidents, and advanced training to employees who require advanced knowledge of the ICS. The training will also provide an overview for Executives and Senior Officials with and introduction and overview of ICS. Additional training includes an overview of NIMS and the National Response Framework focusing especially on those who are involved in delivering and applying the response core capabilities.

Need and Use of the Information: APHIS uses the following information collection activities to support the APHIS National Incident Management System (NIMS) Training and Exercise:

Course Enrollment; (APHIS Directive 1810.2); (State; Local; Tribal)

Respondents desiring to enroll into an APHIS-offered NIMS course must submit a course enrollment request, with their name and contact email, to NIMS.Training@usda.gov. Slots are available on a first-come first-serve basis after APHIS employee requests are filled.

Course Roster; (APHIS Form 353); (Federal)

The course roster is considered an affidavit and is not reportable as an activity.

NIMS Course Evaluation (APHIS Form 354); (APHIS Directive 1810.2); (State; Local; Tribal)

At the conclusion of each course, student participants will be asked to complete a NIMS Course Evaluation Sheet to provide feedback on course effectiveness, instructor preparation, and facility provisions.

NIMS Course Evaluation (APHIS Form 354); (APHIS Directive 1810.2); (State; Local; Tribal)

At the conclusion of each course, student participants will be asked to complete a NIMS Course Evaluation Sheet to provide feedback on course effectiveness, instructor preparation, and facility provisions.

Description of Respondents: State, Local, and Tribal governments.

Number of Respondents: 300.

Frequency of Responses: Reporting: On occasion; Recordkeeping: Annual.

Total Burden Hours: 75.

Rachelle Ragland-Greene,
Departmental Information Collection Clearance Officer.

[FR Doc. 2024-22051 Filed 9-25-24; 8:45 am]

BILLING CODE 3410-34-P